DEPARTMENT OF EDUCATION

[CFDA Nos. 84.170A]

Jacob K. Javits Fellowship Program

ACTION: Correction; Notice correcting the deadline date.

SUMMARY: We correct the Deadline for Transmittal of Applications date in the notice published on July 21, 2008 (73 FR 42338-42340).

SUPPLEMENTARY INFORMATION: On July 21, 2008, we published a notice in the Federal Register (73 FR 42338) inviting applications for new awards for fiscal year (FY) 2009 for the Jacob K. Javits Fellowship Program. The Deadline for Transmittal of Applications date (as published on pages 42338 and 42339) is corrected to October 3, 2008.

FOR FURTHER INFORMATION CONTACT: Carmen Gordon, Jacob K. Javits Fellowship Program, U.S. Department of Education, Teacher and Student Development Programs Service, 1990 K St., NW., room 6089, Washington, DC 20006-8524. Telephone: (202) 502-7542 or e-mail: ope_javits_program@ed.gov .

If you use a TDD, call the FRS, toll free, at 1-800-877-8339.

Individuals with disabilities can obtain this document and a copy of the application package in an alternative format (e.g., Braille, large print, audiotape, or computer diskette) on request to the program contact person listed under FOR FURTHER INFORMATION CONTACT.

Electronic Access to This Document: You may view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 12, 2008.
Sara Martinez Tucker,
Under Secretary for Education.

[FR Doc. E8-18972 Filed 8-14-08; 8:45 am]

BILLING CODE 4000-01-P